DEPARTMENT OF TRANSPORTATION

Federal Aviation Administration

14 CFR Parts 33

[Docket No. FAA-2007-28501; Amendment No. 33-27]

RIN 2120-AJ05

Airworthiness Standards; Aircraft Engine Standards for Pressurized Engine Static Parts; Correction

AGENCY: Federal Aviation Administration (FAA), DOT.

ACTION: Final rule; correction.

SUMMARY: This document corrects the amendment number to a final rule published in the Federal Register of Thursday, September 25, 2008, regarding requirements for pressurized engine static parts.

DATES: This amendment becomes effective November 24, 2008.

FOR FURTHER INFORMATION CONTACT: Tim Mouzakis, Engine and Propeller Directorate Standards Staff, ANE-111, Federal Aviation Administration, 12 New England Executive Park, Burlington, Massachusetts 01803-5299; telephone (781) 238-7114, fax (781) 238-7199, e-mail timoleon.mouzakis@faa.gov.

Correction

In final rule Aircraft Engine Standards for Pressurized Engine Static Parts beginning on page 55435 in the Federal Register issue of Thursday, September 25, 2008, (73 FR 55435) make the following correction.

1. On page 55435, in the first column, beginning on the fourth line of the heading, “Amendment No. 33-26” is corrected to read “Amendment No. 33-27.”

Issued in Washington, DC on September 26, 2008.
Pamela Hamilton-Powell,
Director, Office of Rulemaking.

[FR Doc. E8-23140 Filed 10-1-08; 8:45 am]

BILLING CODE 4910-13-P